DEPARTMENT OF JUSTICE

Notice of Lodging of Consent Decree Under the Comprehensive Environmental Response, Compensation, and Liability Act

Notice is hereby given that on June 30, 2006, a proposed Consent Decree in United States v. CBS Corporation, Winner Development Company, Inc., Winner Development LLC, and AK Steel Corporation, Civ. No. 06-0868, was lodged with the United States District Court for the Western District of Pennsylvania.

The proposed consent decree would resolve the United States' claims, on behalf of the Environmental Protection Agency (“EPA”), under Section 107(a) of the Comprehensive Environmental Response, Compensation, and Liability Act (“CERCLA”). 42 U.S.C. 9607(a), against CBS Corporation (“CBS”), Winner Development Company, Inc. (“Winner Inc.”), Winner Development, LLC (“Winner LLC”), and AK Steel Corporation (“AK Steel”) to recover costs incurred by the United States in performing response actions at the Westinghouse Sharon Superfund Site (“Site”) in Sharon, Mercer County, Pennsylvania as set forth in the terms of the decree. CBS, Winner Inc., Winner LLC, and AK Steel are liable for the United States' response costs under Section 107(a)(1) of CERCLA, 42 U.S.C. 9607(a)(2) because they are current owners of the Site. Further, CBS is also liable under Section 107(a)(2) of CERCLA, 42 U.S.C. 9607(a)(2), because its predecessor owned or operated, at the time of disposal, facilities at the Site at which hazardous substances were disposed.

Under the terms of the Consent Decree, CBS, Winner Inc., Winner LLC, and AK Steel have agreed to pay $2,685,621 of EPA's un-reimbursed response costs of $2,984,024 at the Site. They have also agreed to pay any future costs that the United States incurs and pays in connection with the Site that are not inconsistent with the National Contingency Plan.

The Department of Justice will receive for a period of thirty (30) days from the date of this publication comments relating to the Consent Decree. Comments should be addressed to the Assistant Attorney General, Environment and Natural Resources Division, P.O. Box 7611, U.S. Department of Justice, Washington, DC 20044-7611, and should refer to United States v. CBS Corporation, Winner Development Company, Inc., Winner Development, LLC, and AK Steel Corporation, Civ. No. 06-0868, D.J. Ref. 90-11-2-06869/1/

The Consent Decree may be examined at the Office of the United States Attorney for the Western District of Pennsylvania, 700 Grant Street, Suite 4000, Pittsburgh, PA 15219. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Consent Decree from the Consent Decree Library, please enclose a check in the amount of $5.75 (23 pages at 25 cents per page reproduction cost) payable to the U.S. Treasury.

Robert D. Brook,
Assistant Section Chief, Environmental Enforcement Section, Environment and Natural Resources Division.

[FR Doc. 06-6346 Filed 7-18-06; 8:45 am]

BILLING CODE 4410-15-M